DEPARTMENT OF VETERANS AFFAIRS

[OMB Control No. 2900-0554]

Agency Information Collection (Homeless Providers Grant and Per Diem Program) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before October 15, 2012.

ADDRESSES: Submit written comments on the collection of information through www.Regulations.gov; or to VA's OMB Desk Officer, OMB Human Resources and Housing Branch, New Executive Office Building, Room 10235, Washington, DC 20503, (202) 395-7316. Please refer to “OMB Control No. 2900-0554” in any correspondence.

FOR FURTHER INFORMATION CONTACT: Denise McLamb, Enterprise Records Service (005R1B), Department of Veterans Affairs, 810 Vermont Avenue NW., Washington, DC 20420, (202) 632-7479, fax (202) 632-7583 or email denise.mclamb@va.gov. Please refer to “OMB Control No. 2900-0554.”

SUPPLEMENTARY INFORMATION: Titles:

a. Homeless Providers Grant and Per Diem Program, Capital Grant Application, VA Form 10-0361-CG.

b. Homeless Providers Grant and Per Diem Program, Life Safety Code Application, VA Form 10-0361-LSC.

c. Homeless Providers Grant and Per Diem Program, Per Diem Only Application, VA Form 10-0361-PDO.

d. Homeless Providers Grant and Per Diem Program, Special Needs Application, VA Form 10-0361-SN.

e. Compliance Reports for Per Diem and Special Needs Grants. No form needed. May be reported to VA in standard business narrative.

f. Homeless Providers Grant and Per Diem Program, Technical Assistance Application, VA Form 10-0361-TA.

g. Compliance Reports for Technical Assistance Grants. No form needed. May be reported to VA in standard business narrative.

OMB Control Number: 2900-0554.

Type of Review: Revision of a currently approved collection.

Abstract: VA Form 10-0361 series, Homeless Providers Grant and Per Diem Program, will be used to evaluate applicants' eligibility to receive a grant and/or per diem payments, apply the specific criteria to rate and rank each application; and to obtain information necessary to ensure that Federal funds are awarded to applicants who are financially stable and who will conduct the program for which grant and/or per diem award was made.

An agency may not conduct or sponsor, and a person is not required to respond to a collection of information unless it displays a currently valid OMB control number. The Federal Register Notice with a 60-day comment period soliciting comments on this collection of information was published on July 2, 2012, at pages 39342-39343.

Affected Public: Not-for-profit institutions.

Estimated Total Annual Burden:

a. Homeless Providers Grant and Per Diem Program, Capital Grant Application, VA Form 10-0361-CG—3,500 hours.

b. Homeless Providers Grant and Per Diem Program, Life Safety Code Application, VA Form 10-0361-LSC—2,000 hours.

c. Homeless Providers Grant and Per Diem Program, Per Diem Only Application, VA Form 10-0361-PDO—3,000 hours.

d. Homeless Providers Grant and Per Diem Program, Special Needs Application, VA Form 10-0361-SN—4,000 hours.

e. Compliance Reports for Per Diem and Special Needs Grants—1,500 hours.

f. Homeless Providers Grant and Per Diem Program, Technical Assistance Application, VA Form 10-0361-TA—250 hours.

g. Compliance Reports for Technical Assistance Grants—90 hours.

Estimated Average Burden per Respondent:

a. Homeless Providers Grant and Per Diem Program, Capital Grant Application, VA Form 10-0361-CG—35 hours.

b. Homeless Providers Grant and Per Diem Program, Life Safety Code Application, VA Form 10-0361-LSC—10 hours.

c. Homeless Providers Grant and Per Diem Program, Per Diem Only Application, VA Form 10-0361-PDO—20 hours.

d. Homeless Providers Grant and Per Diem Program, Special Needs Application, VA Form 10-0361-SN—20 hours.

e. Compliance Reports for Per Diem and Special Needs Grants—5 hours.

f. Homeless Providers Grant and Per Diem Program, Technical Assistance Application, VA Form 10-0361-TA—10 hours.

g. Compliance Reports for Technical Assistance Grants—2.25 hours.

Frequency of Response: On occasion.

Estimated Number of Respondents:

a. Homeless Providers Grant and Per Diem Program, Capital Grant Application, VA Form 10-0361-CG—100.

b. Homeless Providers Grant and Per Diem Program, Life Safety Code Application, VA Form 10-0361-LSC—200.

c. Homeless Providers Grant and Per Diem Program, Per Diem Only Application, VA Form 10-0361-PDO—150.

d. Homeless Providers Grant and Per Diem Program, Special Needs Application, VA Form 10-0361-SN—200.

e. Compliance Reports for Per Diem and Special Needs Grants—300.

f. Homeless Providers Grant and Per Diem Program, Technical Assistance Application, VA Form 10-0361-TA—25.

g. Compliance Reports for Technical Assistance Grants—10.

Dated: September 7, 2012.
By direction of the Secretary.
Denise McLamb,
Program Analyst, Enterprise Records Service.

[FR Doc. 2012-22494 Filed 9-12-12; 8:45 am]

BILLING CODE 8320-01-P